SECURITIES AND EXCHANGE COMMISSION

Submission for OMB Review; Comment Request

Upon Written Request; Copies Available From: Securities and Exchange Commission, Office of Filings and Information Services, Washington, DC 20549.

Extension: Form S-2, OMB Control No. 3235-0072, SEC File No. 270-060.

Notice is hereby given that pursuant to the Paperwork Reduction Act of 1995 (44 U.S.C. 3501 et seq.) the Securities and Exchange Commission (“Commission”) has submitted to the Office of Management and Budget a request for an extension of the previously approved collection of information discussed below.

Form S-2 (OMB Control No. 3235-0072; SEC File No. 270-060) is used by certain issuers to register securities under the Securities Act of 1933. The Form S-2 provides investors with the necessary information to make investment decisions regarding securities offered to the public. The likely respondents will be public companies. The information collected must be filed with the Commission and is publicly available. Form S-2 takes approximately 470 burden hours to prepare and is filed by 101 respondents for a total of 47,470 burden hours. It is estimated that 25% of the 47,470 total burden hours (11,868 hours) is prepared by the company. The remaining 75% of burden hours is attributed to outside cost.

An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, DC 20503; and (ii) Kenneth A. Fogash, Acting Associate Executive Director/CIO, Office of Information Technology, Securities and Exchange Commission, 450 Fifth Street, NW., Washington, DC 20549. Comments must be submitted to OMB within 30 days of this notice.

Dated: September 29, 2003.
Jill M. Peterson,
Assistant Secretary.

[FR Doc. 03-25314 Filed 10-6-03; 8:45 am]

BILLING CODE 8010-01-P